DEPARTMENT OF THE INTERIOR

Fish and Wildlife Service

[FWS-R8-ES-2013-N293; FXES11130800000-145-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before March 24, 2014.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-20915B

Applicant: Craig A. Swolgaard, Georgetown, California

The applicant requests a permit to take (harass by survey, capture, handle, and release) the California tiger salamander (Santa Barbara County Distinct Population Segment (DPS) and Sonoma County DPS) (Ambystoma californiense) in conjunction with survey activities throughout the range of the species in California for the purpose of enhancing the species' survival.

Permit No. TE-43597A

Applicant: Dana H. McLaughlin, Chula Vista, California

The applicant requests an amendment to a permit to take (survey, capture, handle, mark, and release) the San Bernardino kangaroo rat (Dipodomys merriami parvus) in conjunction with survey activities throughout the range of the species in California for the purpose of enhancing the species' survival.

Permit No. TE-21700B

Applicant: Diana J. Grosso, Bakersfield, California

The applicant requests a permit to take (survey, capture, handle, measure, and release) the giant kangaroo rat (Dipodomys ingens) and Tipton kangaroo rat (Dipodomys nitratoides nitratoides) in conjunction with survey activities throughout the range of each species in California for the purpose of enhancing the species' survival.

Permit No. TE-795930

Applicant: Tansley Team Incorporated, Sheridan, California

The applicant requests an amendment to a permit to take (capture, collect, transport, hatch and rear) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with fairy shrimp cyst identification activities throughout the range of each species in California for the purpose of enhancing the species' survival.

Permit No. TE-97717A

Applicant: Melissa Blundell, Oxnard, California

The applicant requests an amendment to a permit to take (harass by survey) the southwestern willow flycatcher (Empidonax traillii extimus) in conjunction with survey activities throughout the range of the species in California for the purpose of enhancing the species' survival.

Permit No. TE-799564

Applicant: Sycamore Environmental Consultants, Inc., Sheridan, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-217119

Applicant: Carie M. Wingert, Fresno, California

The applicant requests a permit to take (survey, capture, handle, measure, and release) the giant kangaroo rat (Dipodomys ingens) and Tipton kangaroo rat (Dipodomys nitratoides nitratoides) and take (harass by survey and nest monitor) the California least tern (Sternula antillarum browni) (Sterna a. b.) and western snowy plover (Pacific Coast population DPS) (Charadrius nivosus nivosus) in conjunction with survey activities throughout the range of each species in California for the purpose of enhancing the species' survival.

Permit No. TE-213308

Applicant: Joseph E. DiDonato, Alameda, California

The applicant requests a permit renewal to take (harass by survey) the California tiger salamander (Santa Barbara County DPS and Sonoma County DPS) (Ambystoma californiense) in conjunction with survey activities throughout the range of the species in California for the purpose of enhancing the species' survival.

Permit No. TE-062907-8

Applicant: Andrew M. Forde, Camarillo, California

The applicant requests a permit renewal to take (harass by survey, locate and monitor nests, trap using mist nets, handle, color band, and collect blood and feathers) the southwestern willow flycatcher (Empidonax traillii extimus), take (harass by survey and locate and monitor nests) the coastal California gnatcatcher (Polioptila californica californica), take (locate and monitor nests and remove brown-headed cowbird (Molothrus ater) eggs and chicks from parasitized nests) the least Bell's vireo (Vireo bellii pusillus), and take (survey by pursuit) the Quino checkerspot butterfly (Euphydryas editha quino) in conjunction with surveys, population monitoring, and research activities throughout the range of each species in California, Nevada, Arizona, New Mexico, Texas, and Colorado, for the purpose of enhancing the species' survival.

Permit No. TE-22780B

Applicant: Florence Chan, Irvine, California

The applicant requests a permit to take (locate and monitor nests) the least Bell's vireo (Vireo bellii pusillus) in conjunction with surveys and nest monitoring activities throughout the range of the species in California for the purpose of enhancing the species' survival.

Permit No. TE-22798B

Applicant: North Star Engineering, Chico, California

The applicant requests a permit to take (capture, collect, and collect vouchers) the Conservancy fairy shrimp (Branchinecta conservatio), longhorn fairy shrimp (Branchinecta longiantenna), and vernal pool tadpole shrimp (Lepidurus packardi) in conjunction with surveys and soil inoculum collection activities in Butte, Glenn, Tehama, Shasta, Sacramento, Placer, and Sutter Counties, California, for the purpose of enhancing the species' survival.

Permit No. TE-769304

Applicant: Jeffrey A. Halstead, Clovis, California

The applicant requests a permit renewal to take (survey, capture, handle, and release) the Tipton kangaroo rat (Dipodomys nitratoides nitratoides) and Fresno kangaroo rat (Dipodomys nitratoides exilis) and take (harass by survey) the California tiger salamander (Santa Barbara County DPS and Sonoma County DPS) (Ambystoma californiense) in conjunction with survey activities throughout the range of each species in California for the purpose of enhancing the species' survival.

Permit No. TE-005956

Applicant: U.S. Geological Survey, Reno, Nevada

The applicant requests a permit renewal to take (capture, measure, weigh, mark, release, and collect) the cui-ui (Chasmistes jujus), take (capture, measure, mark, tag, release, collect, and harass by observation) the Ash Meadows speckled dace (Rhinichthys osculus nevadensis), Ash Meadows Amargosa pupfish (Cyprinodon nevadensis mionectes), and Moapa dace (Moapa coriacea); take (capture, measure, mark, tag, release, and harass by observation) the Warm Springs Amargosa pupfish (Cyprinodon nevadensis pectoralis); take (capture, mark, observe, and release) the White River springfish (Crenichthys baileyi baileyi) and Hiko White River springfish (Crenichthys baileyi grandis); take (capture, release, translocate, and harass by observation) the White River spinedace (Lepidomeda albivalis); take (harass by observation) the Pahranagat roundtail chub (Gila robusta jordani); and take (capture, mark, and release) the Clover Valley speckled dace (Rhinichthys osculus oligoporus) and Independence Valley speckled dace (Rhinichthys osculus lethoporus) in conjunction with surveys and scientific research activities throughout the range of each species in Nevada for the purpose of enhancing the species' survival.

Permit No. TE-031848

Applicant: Ryan N. Henry, Dana Point, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-22802B

Applicant: John C. Sterling, Woodland, California

The applicant requests a permit to take (band, locate, and monitor nests) the least Bell's vireo (Vireo bellii pusillus), take (harass by survey, band, locate and monitor nests) the southwestern willow flycatcher (Empidonax traillii extimus), and take (survey and nest monitor) the California clapper rail (Rallus longirostris obsoletus) in conjunction with surveys, nest monitoring, and population monitoring activities throughout the range of each species in California for the purpose of enhancing the species' survival.

Permit No. TE-787716

Applicant: Scott B. Tremor, San Diego, California

The applicant requests a permit renewal to take (capture, handle, and release) the Pacific pocket mouse (Perognathus longimembris pacificus), San Bernardino Merriam's kangaroo rat (Dipodomys merriami parvus), and Stephens' kangaroo rat (Dipodomys stephensi) in conjunction with survey activities throughout the range of each species in California for the purpose of enhancing the species' survival.

Permit No. TE-037806

Applicant: Bureau of Land Management, Bakersfield, California

The applicant requests a permit renewal to take (capture, collect, and collect vouchers) the Conservancy fairy shrimp (Branchinecta conservatio), longhorn fairy shrimp (Branchinecta longiantenna), and vernal pool tadpole shrimp (Lepidurus packardi), and take (harass by survey, capture, handle, mark, and release) the giant kangaroo rat (Dipodomys ingens) and Tipton kangaroo rat (Dipodomys nitratoides nitratoides) in conjunction with survey and research activities throughout the range of each species in Ventura, Santa Barbara, San Luis Obispo, Tulare, Kings, Madera, Fresno, Kern, Monterey, and San Benito Counties, California, for the purpose of enhancing the species' survival.

Permit No. TE-95006A

Applicant: Steven Chung-Li Chen, San Luis Obispo, California

The applicant requests an amendment to a permit to take (survey, capture, handle, measure, and release) the Tipton kangaroo rat (Dipodomys nitratoides nitratoides), Fresno kangaroo rat (Dipodomys nitratoides exilis), Stephens' kangaroo rat (Dipodomys stephensi) and Morro Bay kangaroo rat (Dipodomys heermanni morroensis) in conjunction with survey activities throughout the range of each species in California for the purpose of enhancing the species' survival.

Permit No. TE-785148

Applicant: AMEC Environmental & Infrastructure, Inc., Riverside, California

The applicant requests an amendment to a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-086593

Applicant: University of Arizona, Tucson, Arizona

The applicant requests an amendment to a permit to take (survey, capture, handle, release, remove from the wild, transport, captive breed, and hold in captivity) the Moapa dace (Moapa coriacea) in conjunction with surveys and scientific research activities throughout the range of each species in Lincoln County, Nevada, and research facility at the University of Arizona, Tucson, Arizona, for the purpose of enhancing the species' survival.

Permit No. TE-192702

Applicant: Jamie M. Kneitel, Sacramento, California

The applicant requests an amendment to a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with genetic analysis and vernal pool diversity studies throughout the range of each species in California for the purpose of enhancing the species' survival.

Permit No. TE-217401

Applicant: Cristina V. Slaughter, Santa Barbara, California

The applicant requests a permit renewal to take (harass by survey, capture, and release) the tidewater goby (Eucyclogobius newberryi) in conjunction with survey activities throughout the range of the species in California for the purpose of enhancing the species' survival.

Permit No. TE-045994

Applicant: U.S. Geological Survey, Biological Resources Division, Western Ecological Research Center, San Diego, California

The applicant requests a permit renewal to take (harass by survey, capture, handle, release, and collect specimens for vouchers, parasite analysis, and genetic and morphological assessments) the unarmored threespine stickleback (Gasterosteus aculeatus williamsoni) and Santa Ana sucker (Catostomus santaanae), take (harass by survey, capture, handle, collect tail tissue, and release) the desert slender salamander (Batrachoseps major aridus), take (harass by survey, capture, handle, mark, tag, and release; collect voucher specimens and take tissue samples; transport, captive rear, and release; and excavate ponds) the California red-legged frog (Rana draytonii) (R. aurora d.), take (harass by survey, capture, handle, mark, tag, and release; collect voucher specimens and take tissue samples; transport, captive breed and rear; collect sperm for cryopreservation efforts; conduct hormone treatments in captive breeding; remove infertile eggs from egg masses released from captivity; release to the wild (translocate); and euthanize) the mountain yellow-legged frog (southern California DPS) (Rana muscosa), take (harass by survey, capture, handle, mark, tag, take tissue samples, and release) the arroyo toad (=arroyo southwestern) (Anaxyrus californicus (Bufo microscaphus c.)), take (harass by survey, capture, handle, measure, release, and collect for voucher specimens and parasite research) the tidewater goby (Eucyclogobius newberryi), take (harass by survey, capture, handle, tag, clip fur, and release) the Stephens' kangaroo rat (Dipodomys stephensi), and take (harass by survey, capture, handle, collect biological tissue, utilize tracking tubes, photograph and record, mark, and release) the Pacific pocket mouse (Perognathus longimembris pacificus) in conjunction with surveys, population monitoring, captive breeding, and research activities throughout the range of each species in California for the purpose of enhancing the species' survival.

Permit No. TE-217401

Applicant: Jepson Prairie Reserve, Davis, California

The applicant requests a permit renewal to take (capture, collect, and collect vouchers) the Conservancy fairy shrimp (Branchinecta conservatio) and vernal pool tadpole shrimp (Lepidurus packardi) in conjunction with survey activities in Solano County, California, for the purpose of enhancing the species' survival.

Permit No. TE-24256B

Applicant: Brett Daniels, Indio, California

The applicant requests a permit to take (capture, handle, collect, transport, captive rear) the desert pupfish (Cyprinodon macularius) in conjunction with research activities in Riverside County, California, for the purpose of enhancing the species' survival.

Permit No. TE-778195

Applicant: Helix Environmental Planning, LaMesa, California

The applicant requests an amendment to a permit to take (capture, collect, transport, hatch, and rear) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with fairy shrimp cyst identification activities throughout the range of each species in California for the purpose of enhancing the species' survival.

Permit No. TE-837574

Applicant: Denise L. LaBerteaux, Weldon, California

The applicant requests a permit renewal to take (harass by survey, capture, band, and locate and monitor nests) the southwestern willow flycatcher (Empidonax traillii extimus) in conjunction with survey activities throughout the range of the species in California for the purpose of enhancing the species' survival.

Permit No. TE-811615

Applicant: Cynthia J. Daverin, San Diego, California

The applicant requests a permit renewal to take (locate and monitor nests) the least Bell's vireo (Vireo bellii pusillus), take (harass by survey, locate and monitor nests) the southwestern willow flycatcher (Empidonax traillii extimus), take (survey by pursuit) the Quino checkerspot butterfly (Euphydryas editha quino), and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey and population monitoring activities throughout the range of each species in California for the purpose of enhancing the species' survival.

Permit No. TE-108683

Applicant: Austin J. Pearson, Coarsgold, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-25226B

Applicant: Rebecca E. Crowe, San Francisco, California

The applicant requests a permit to take (capture and collect) branchiopod eggs/cysts of the Conservancy fairy shrimp (Branchinecta conservatio) and vernal pool tadpole shrimp (Lepidurus packardi) in conjunction with soil collection and research activities in Sonoma County, California, for the purpose of enhancing the species' survival.

Permit No. TE-24603A

Applicant: Karen J. Carter, Running Springs, California

The applicant requests a permit to take (harass by survey) the Yuma clapper rail (Rallus longirostris yumanensis) in conjunction with survey activities in San Bernardino, Imperial, and Riverside Counties, California, and Clark County, Nevada, for the purpose of enhancing the species' survival.

Permit No. TE-817397

Applicant: John R. Storrer, Santa Barbara, California

The applicant requests a permit renewal to take (harass by survey, capture, handle, release, collect tail tissue, and collect voucher specimens) the California tiger salamander (Santa Barbara County DPS) (Ambystoma californiense) in conjunction with survey and research activities in Santa Barbara County, California, for the purpose of enhancing the species' survival.

Permit No. TE-25257B

Applicant: Joseph A.E. Stewart, Santa Cruz, California

The applicant requests a permit to take (survey, capture, handle, mark/recapture, and release) the blunt-nosed leopard lizard (Gambelia silus) in conjunction with surveys, population studies, and research activities throughout the range of the species in California for the purpose of enhancing the species' survival.

Permit No. TE-233367

Applicant: Laura E. Gorman, San Diego, California

The applicant requests a permit renewal and amendment to take (survey by pursuit) the Quino checkerspot butterfly (Euphydryas editha quino) and take (harass by survey, locate and monitor nests) the southwestern willow flycatcher (Empidonax traillii extimus) in conjunction with survey and population monitoring activities throughout the range of each species in California, Nevada, Arizona, New Mexico, Texas, Utah, and Colorado for the purpose of enhancing the species' survival.

Permit No. TE-020548

Applicant: U.S. Geological Survey, Vallejo, California

The applicant requests a permit renewal and amendment to take (survey, capture, handle, mark, collect genetic material, and release) the salt marsh harvest mouse (Reithrodontomys raviventris) and take (harass by survey, capture, handle, band, color-mark, radio-tag, collect genetic material, candle eggs, salvage eggs and carcasses, and release) the Yuma clapper rail (Rallus longirostris yumanensis) and California clapper rail (Rallus longirostris obsoletus) in conjunction with survey activities, population monitoring, and research activities throughout the range of each species in California and Arizona for the purpose of enhancing the species' survival.

Permit No. TE-041668

Applicant: Cleveland National Forest, San Diego, California

The applicant requests a permit renewal and amendment to take (harass by survey, capture, handle, and release) the arroyo toad (=arroyo southwestern) (Anaxyrus californicus (Bufo microscaphus c.)), take (harass by survey, locate and monitor nests, and remove brown-headed cowbird (Molothrus ater) eggs and chicks from parasitized nests) the southwestern willow flycatcher (Empidonax traillii extimus), take (locate and monitor nests, and remove brown-headed cowbird eggs and chicks from parasitized nests) the least Bell's vireo (Vireo bellii pusillus), and reduce and remove to possession (collect) the Dodecahema leptoceras (slender-horned spineflower), Allium munzii (Munz's onion), Astragalus brauntonii (Braunton's milk-vetch), Berberis nevinii (Nevin's barberry), and Poa atropurpurea (San Bernardino bluegrass) in conjunction with surveys and life history studies throughout the range of each species on Cleveland National Forest lands within San Diego, Orange, and Riverside Counties, California, for the purpose of enhancing the species' survival.

Permit No. TE-837439

Applicant: Guy P. Bruyea, Hemet, California

The applicant requests a permit renewal to take (survey by pursuit) the Quino checkerspot butterfly (Euphydryas editha quino) and Delhi Sands flower-loving fly (Rhaphiomidas terminates abdominalis) in conjunction with survey activities throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2014-03602 Filed 2-19-14; 8:45 am]

BILLING CODE 4310-55-P